DEPARTMENT OF LABOR

Office of the Secretary

Submission for OMB Review: Comment Request

October 17, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation, including among other things a description of the likely respondents, proposed frequency of response, and estimated total burden may be obtained from the RegInfo.gov Web site at http://www.reginfo.gov/public/do/PRAMain or by contacting Mary Beth Smith-Toomey on 202-693-4223 (this is not a toll-free number) / e-mail DOL_PRA_PUBLIC@dol.gov.

Interested parties are encouraged to send comments to the Office of Information and Regulatory Affairs, Attn: OMB Desk Officer for the Dept of Labor—Employment and Training Administration, Office of Management and Budget, Room 10235, Washington, DC 20503, Telephone: 202-395-7316 / Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Revision of an existing OMB Control Number.

Title of Collection: Project Gate.

OMB Control Number: 1205-0444.

Affected Public: Individuals or households.

Total Estimated Number of Respondents: 2,431.

Total Estimated Annual Burden Hours: 1,216.

Total Estimated Annual Costs Burden: $0.

Description: Project GATE is a demonstration program designed to assist individuals interested in self-employment to develop their businesses. To determine whether the program should be replicated on a larger scale, an evaluation has been conducted and is in its final stage, OMB approved an additional survey of 400 individuals (Wave II), which was completed early in 2007. However, the analysis of Wave II data did not indicate anticipated improved earnings; therefore, ETA is requesting to conduct an identical 5-year follow-up with 2,431 Project GATE program completers to enable ETA to determine whether this finding persists over time.

Darrin A. King,
Departmental Clearance Office.

[FR Doc. E8-25249 Filed 10-22-08; 8:45 am]

BILLING CODE 4510-FN-P